NUCLEAR REGULATORY COMMISSION

[NRC-2016-0099]

Report to Congress on Abnormal Occurrences; Fiscal Year 2015; Dissemination of Information

AGENCY: Nuclear Regulatory Commission.

ACTION: NUREG; issuance.

SUMMARY: The U.S. Nuclear Regulatory Commission (NRC) is issuing NUREG-0090, Volume 38, “Report to Congress on Abnormal Occurrences: Fiscal Year 2015.” The report describes a total of 17 events for Fiscal Year (FY) 2015. Fifteen events involved Agreement State licensees and two events involved NRC licensees.

DATES: NUREG-0090, Volume 38, is available June 6, 2016.

ADDRESSES: Please refer to Docket ID NRC-2016-0099 when contacting the NRC about the availability of information regarding this document. You may obtain publicly-available information related to this document using any of the following methods:

• Federal Rulemaking Web site: Go to http://www.regulations.gov and search for Docket ID NRC-2016-0099. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Minh-Thuy Nguyen, Office of Nuclear Regulatory Research, U.S. Nuclear Regulatory Commission, Washington, DC 20555-0001, telephone: 301-415-5163, email: MinhThuy.Nguyen@nrc.gov.

SUPPLEMENTARY INFORMATION: Section 208 of the Energy Reorganization Act of 1974, as amended (Pub. L. 93-438), defines an “abnormal occurrence” (AO) as an unscheduled incident or event that the NRC determines to be significant from the standpoint of public health or safety. The report describes those events that the NRC identified as AOs during FY 2015, based on the criteria defined in Appendix A of the report, “Abnormal Occurrence Criteria and Guidelines for Other Events of Interest.”

The report describes 15 events at Agreement State-licensed facilities and two events at NRC-licensed facilities. One NRC-licensee event occurred in a medical facility and involved radiation exposure to an embryo/fetus. The 15 Agreement State-licensee events and the other NRC-licensee event were medical events as defined in part 35 of title 10 of the Code of Federal Regulations, “Medical Use of Byproduct Material.” Agreement States are the 37 States that currently have entered into formal agreements with the NRC pursuant to Section 274 of the Atomic Energy Act of 1954, as amended (AEA), to regulate certain quantities of AEA-licensed material at facilities located within their borders.

The Federal Reports Elimination and Sunset Act of 1995 (Public Law 104-68) requires that the NRC report AOs to Congress annually. The full report, NUREG-0090, Volume 38, “Report to Congress on Abnormal Occurrences: Fiscal Year 2015,” is available electronically at the NRC's Web site at http://www.nrc.gov/reading-rm/doc-collections/nuregs/staff/, and in ADAMS under Accession No. ML16145A026.

Dated at Rockville, Maryland, this 26th day of May, 2016.
For the Nuclear Regulatory Commission.
Richard J. Laufer,
Acting, Secretary of the Commission.

[FR Doc. 2016-13274 Filed 6-3-16; 8:45 am]

BILLING CODE 7590-01-P